DEPARTMENT OF TRANSPORTATION

Federal Motor Carrier Safety Administration

[Docket No. FMCSA-2014-0284]

Commercial Driver's License Passenger Endorsement Requirements; Preparing a Report to Congress

AGENCY: Federal Motor Carrier Safety Administration (FMCSA), DOT.

ACTION: Notice; request for public comment.

SUMMARY: In response to section 32709 of the Moving Ahead for Progress in the 21st Century Act (MAP-21), the FMCSA requests public comments concerning the current knowledge and skills testing requirements for a commercial driver's license (CDL) passenger endorsement to determine whether improvements to the knowledge test, the examination of driving skills, and the application of the requirements are necessary to ensure the safe operation of commercial motor vehicles designed or used to transport passengers. Section 32709 requires the Secretary to submit a report to Congress on the issue. FMCSA has reviewed information from State licensing agencies responsible for conducting such tests and now provides an opportunity for all interested parties to share their perspectives on this issue as the Agency completes its report to Congress.

DATES: Comments must be received on or before October 16, 2014.

ADDRESSES: You may submit comments identified by docket number FMCSA-2014-0284 using any one of the following methods:

• Federal eRulemaking Portal: http://www.regulations.gov.

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

To avoid duplication, please use only one of these four methods. See the “Public Participation and Request for Comments” heading under the SUPPLEMENTARY INFORMATION section below for instructions on submitting comments.

FOR FURTHER INFORMATION CONTACT: Mr. Robert Redmond, Office of Safety Programs, Commercial Driver`s License Division, telephone (202) 366-5014 or email robert.redmond@dot.gov. FMCSA office hours are from 9 a.m. to 5 p.m., e.t., Monday through Friday, except Federal holidays. If you have questions on viewing or submitting material to the docket, call Renee V. Wright, Program Manager, Docket Operations, telephone 202-366-9826.

SUPPLEMENTARY INFORMATION:

I. Public Participation and Request for Comments

FMCSA encourages you to participate by submitting comments and related materials.

Submitting Comments

If you submit a comment, please include the docket number for this notice (FMCSA-2014-0284), indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and click on the “Submit a Comment” box, which will then become highlighted in blue. In the “Document Type” drop down menu, select “Rules,” insert “FMCSA-2014-0284” in the “Keyword” box, and click “Search.” When the new screen appears, click on “Submit a Comment” in the “Actions” column. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this analysis based on your comments.

Viewing Comments and Documents

To view comments, as well as documents mentioned in this preamble as being available in the docket, go to http://www.regulations.gov and click on the “Read Comments” box in the upper right hand side of the screen. Then, in the “Keyword” box, insert “FMCSA-2014-0284” and click “Search.” Next, click “Open Docket Folder” in the “Actions” column. Finally, in the “Title” column, click on the document you would like to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Privacy Act

All comments received will be posted without change to http://www.regulations.gov and will include any personal information you have provided. Anyone may search the electronic form of all comments received into any of our dockets by the name of the individual submitting the comment (or of the person signing the comment, if submitted on behalf of an association, business, labor union, etc.). You may review DOT's complete Privacy Act Statement in the Federal Register published on January 17, 2008 (73 FR 3316), or you may visit http://edocket.access.gpo.gov/2008/pdf/E8-785.pdf.

II. Background

In October 1986, Congress passed the Commercial Motor Vehicle Safety Act. This act included a provision that, by April 1, 1992, all commercial drivers had to pass knowledge and skills tests that met standards established by the Federal Highway Administration (FHWA), FMCSA's predecessor agency. At that time, FHWA began working with the American Association of Motor Vehicle Administrators (AAMVA) to develop and maintain a CDL test system.

As a result of this work, a document entitled “Requirements for a CDL Test Maintenance System” was developed. This document required that a CDL knowledge test meet the requirements in Subpart G of Part 383 of Title 49, Code of Federal Regulations (CFR) and AAMVA's “Manual for the Administration and Development of CDL Knowledge Test.” Additionally, AAMVA and FHWA developed a “Requirements Document for the Development of Computer-Generated Multiple Choice CDL Knowledge Tests.” This document was used by AAMVA to select vendors for the development of automated testing software.

The contractor developed software generated tests from a pool of 600 questions. Requirements of the algorithm for each test included that the difficulty level must fall within a 10-point range determined by AAMVA; that each test had to contain 25 percent new questions from the previous test; and that the locations of identical questions had to be different from the previous test.

In 1998, Congress passed the Transportation Equity Act for the 21st Century which required the Secretary to evaluate CDL testing practices to determine if they were an accurate reflection of the knowledge and skills required by CDL drivers. As a result, in 2000, an analysis was completed indicating a need to update the 600-question pool with additional knowledge areas concerning the following:

• Dealing with aggressive drivers, road rage, and running red lights.

• Dealing with distractions in the vehicle, such as cell phones, on board records, and its equipment.

• Driver fatigue, sleep, and rest.

• Anti-lock braking systems.

2005 Test System

In 2005, AAMVA released the updated version of the CDL knowledge and skills testing system, including the knowledge question pool. The 2005 CDL Test System was the result of 6 years of research by AAMVA, with assistance from several State Driver Licensing Agencies (SDLA) and driver training schools. The test system was piloted by Delaware, Indiana, and New York.

All three parts of the skills test, including the passenger endorsement skills test, were revised and updated to better evaluate the applicant's skills in operating a commercial motor vehicle. The scoring of all three parts of the skills test, including the passenger endorsement skills test, was revised to create more scoring opportunities requiring the applicant to be more precise in demonstrating his/her skills in operating a commercial motor vehicle. After the 2005 CDL Test System was developed, the SDLAs were given opportunities in 2008 and 2009 to review and suggest edits and revisions before the 2010 version was released.

Previous FMCSA Rulemaking

On April 9, 2008, FMCSA published a notice of proposed rulemaking (NPRM) titled, “Commercial Driver's Licensing Testing and Commercial Learner's Permit Standards” [73 FR 19282]. The comment period was extended to July 8, 2008. The NPRM proposed requiring the States to fully implement the July 2010 version of the 2005 CDL Test System. A copy of this document is included in the docket referenced at the beginning of this notice.

The final rule version published on May 9, 2011, added more CDL driver restrictions for applicants who did not take the skills test in a vehicle equipped with a full air brake system or no air brakes and for applicants who did not take the skills test in a vehicle equipped with a manual transmission [76 FR 26854]. The final rule also reemphasized the fact that a passenger endorsement is class specific. The rule also required the SDLA to restrict the applicant for a passenger endorsement to the class of passenger vehicle in which the applicant took the skills test and any lower class of passenger vehicle.

The May 2011 final rule required States to be in compliance with the new requirements in 49 CFR Part 384 Subpart B by July 8, 2014. The Agency received 34 petitions for reconsideration of the rule. As a result, on March 25, 2013, the Agency published a final rule that set a new compliance date for these requirements of July 8, 2015.

III. Request for Public Comments

Section 32709 of MAP-21 requires the Secretary to review and assess the current knowledge and skill testing requirements for a CDL passenger endorsement to determine what improvements to the knowledge test, the examination of driving skills, and the application of such requirements are necessary to ensure the safe operation of commercial motor vehicles designed or used to transport passengers. FMCSA requests public comments on whether improvements to the knowledge and skills tests, beyond those in the 2005 CDL Test system that will become effective next year, are necessary. The Agency will consider all comments received in preparing its report to Congress.

Issued on: September 8, 2014.
T.F. Scott Darling, III,
Acting Administrator.

[FR Doc. 2014-21995 Filed 9-15-14; 8:45 am]

BILLING CODE 4910-EX-P